EXPORT-IMPORT BANK

[Public Notice: 2022-3003]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995. Government-wide policy requires all Federal employees to be vaccinated against COVID-19, with exceptions only as required by law. Employees may seek a legal exception to the vaccination requirement due to a disability, using the reasonable accommodation Form. The agency may also ask for other information, as needed. Requests for “medical accommodation” or “medical exceptions” will be treated as requests for a disability accommodation and evaluated and decided under applicable Rehabilitation Act standards for reasonable accommodation absent undue hardship to the agency.

DATES: Comments must be received on or before March 28, 2022 to be assured of consideration.

ADDRESSES: Comments may be submitted electronically on WWW.REGULATIONS.GOV (EIB 21-03) or by email to Nakia.Burton@exim.gov, or by mail to Nakia Burton, Export-Import Bank, 811 Vermont Ave. NW, Washington, DC 20571. The information collection tool can be reviewed at: eib21-03.pdf (exim.gov).

FOR FURTHER INFORMATION CONTACT: To request additional information, please Nakia Burton nakia.burton@exim.gov, 202-565-3225.

SUPPLEMENTARY INFORMATION:

Title and Form Number: EIB 21-03 REQUEST FOR A MEDICAL EXCEPTION TO THE COVID-19 VACCINATION REQUIREMENT.

OMB Number: 3048-xxxx.

Type of Review: Regular.

Need and Use: The information collected will allow EXIM to determine compliance and content for transaction requests submitted to the Export-Import Bank under its insurance, guarantee, and direct loan programs.

A Notice Regarding Injunctions: The vaccination requirement issued pursuant to E.O. 14043, is currently the subject of a nationwide injunction. While that injunction remains in place, EXIM will not process requests for a medical exception from the COVID-19 vaccination requirement pursuant to E.O. 14043. EXIM will also not request the submission of any medical information related to a request for an exception from the vaccination requirement pursuant to E.O. 14043 while the injunction remains in place. But EXIM may nevertheless receive information regarding a medical exception. That is because, if EXIM were to receive a request for an exception from the COVID-19 vaccination requirement pursuant to E.O. 14043 during the pendency of the injunction, EXIM will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Affected Public: This form affects EXIM employees.

Annual Number of Respondents: 12.

Estimated Time per Respondent: 2 hours.

Annual Burden Hours: 24 hours.

Frequency of Reporting of Use: As required.

Government Expenses:

Reviewing time per year: 2 hours.

Average Wages per Hour: $42.50.

Average Cost per Year: $1020.00 (time * wages).

Benefits and Overhead: 20%.

Total Government Cost: $1224.00.

Bassam Doughman,
IT Specialist.

[FR Doc. 2022-03930 Filed 2-23-22; 8:45 am]

BILLING CODE 6690-01-P